ENVIRONMENTAL PROTECTION AGENCY

[FRL-10913-01-OMS]

National and Governmental Advisory Committees to the U.S. Representative to the Commission for Environmental Cooperation (CEC)

AGENCY: Environmental Protection Agency (EPA).

ACTION: Notice of meeting.

SUMMARY: Under the Federal Advisory Committee Act, the Environmental Protection Agency (EPA) gives notice of a public meeting of the National Advisory Committee (NAC) and the Governmental Advisory Committee (GAC). The NAC and GAC provide advice to the EPA Administrator on a broad range of environmental policy, technology, and management issues. NAC and GAC members represent academia, business/industry, non-governmental organizations, and state, local and tribal governments. The purpose of this meeting is to provide advice to the EPA Administrator on empowering communities to address climate adaptation challenges and other matters related to the Commission for Environmental Cooperation.

DATES: May 18, 2023, from 8 a.m.-4 p.m. (MST). A copy of the agenda will be posted at www.epa.gov/faca/nac-gac.

ADDRESSES: The meeting will be held at the U.S. EPA Region 6, El Paso Border Office, 511 E San Antonio Avenue, Suite 145, El Paso, Texas 79901.

The meeting will be conducted in a hybrid environment and is open to the public with limited access available on a first-come, first-served basis. Members of the public wishing to participate in the video/teleconference, should contact Oscar Carrillo at carrillo.oscar@epa.gov by May 11, 2023. Requests to make oral comments or submit written public comments to the NAC and GAC should also be directed to Oscar Carrillo at least five business days prior to the meeting. Requests for accessibility and/or accommodations for individuals with disabilities should be directed to Oscar Carrillo at the email address listed above. To ensure adequate time for processing, please make requests for accommodations at least 10 days prior to the meeting.

FOR FURTHER INFORMATION CONTACT: Oscar Carrillo in the Federal Advisory Committee Management Division in the Office of Mission Support (1601M), Environmental Protection Agency, 1200 Pennsylvania Avenue NW, Washington, DC 20460; telephone number: (202) 564-0347; email address: carrillo.oscar@epa.gov.

SUPPLEMENTARY INFORMATION: The NAC and GAC are Presidential federal advisory committees that advise the U.S. Government via the EPA Administrator on trade and environment matters related to the Environmental Cooperation Agreement (ECA), which entered into force at the same time as the United States-Mexico Canada Agreement (USMCA). The NAC and GAC were created in 1994 and operate in accordance with the Federal Advisory Committee Act. Establishment of the committees is authorized under article 11 of the ECA.

Oscar Carrillo,
Program Analyst.

[FR Doc. 2023-08751 Filed 4-25-23; 8:45 am]

BILLING CODE 6560-50-P